SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before April 8, 2002.

ADDRESSES: Send all comments regarding whether these information collections are necessary for the proper performance of the function of the agency, whether the burden estimates are accurate, and if there are ways to minimize the estimated burden and enhance the quality of the collections, to Ruthie Abney, Office Automation Assistant, Office of Business Development, Small Business Administration, 409 3rd Street, SW., Suite 8000, Washington DC 20416.

FOR FURTHER INFORMATION CONTACT: Ruthie Abney, Office Automation Assistant, (202) 205-6410 or Curtis B. Rich, Management Analyst, (202) 205-7030.

SUPPLEMENTARY INFORMATION: Title: 8(a) Annual Update.

Form No: 1450.

Description of Respondents: 8(a) Program Participants.

Annual Responses: 5,000.

Annual Burden: 13,000.

Title: Semiannual Report on Representatives and Compensation Paid for Services in Connection with Obtained Federal Contracts.

Form No: 1790.

Description of Respondents: 8(a) Program Participants.

Annual Responses: 9,000.

Annual Burden: 9,000.

Jacqueline White,
Chief, Administrative Information Branch.

[FR Doc. 02-2725 Filed 2-4-02; 8:45 am]

BILLING CODE 8025-01-P